DEPARTMENT OF HOUSING AND URBAN DEVELOPMENT

[Docket No. FR-5376-N-126]

Notice of Submission of Proposed Information Collection to OMB; Evaluation of the Rapid Re-Housing for Homeless Families Demonstration Program

AGENCY: Office of the Chief Information Officer, HUD.

ACTION: Notice.

SUMMARY: The proposed information collection requirement described below has been submitted to the Office of Management and Budget (OMB) for review, as required by the Paperwork Reduction Act. The Department is soliciting public comments on the subject proposal.

The FY 2008 budget for the U.S. Department of Housing and Urban Development (H.R. 2764) included a $25 million set-aside to implement a Rapid Re-housing for Families Demonstration (RRHD) Program “expressly for the purposes of providing housing and services to homeless families.” Also included in the legislation was a requirement that there be an evaluation of the demonstration program “in order to evaluate the effectiveness of the rapid re-housing approach in addressing the needs of homeless families.” The Notice of Funding Availability (NOFA) states that “the Rapid Re-housing Demonstration program will include an evaluation phase, which will focus on determining the efficacy of the assessment process and the housing/service intervention related to how successfully households are able to independently sustain housing after receiving short-term leasing assistance.”

The Participation Agreement (for the collection of informed consent and contact information), the 6-month Tracking Letter, and the Participant Follow-up Survey Instruments are all necessary to conduct the Congressionally-mandated evaluation of the Rapid Re-Housing for Families Demonstration Program.

DATES: Comments Due Date: January 28, 2011

ADDRESSES: Interested persons are invited to submit comments regarding this proposal. Comments should refer to the proposal by name and/or OMB approval Number (2528-New) and should be sent to: HUD Desk Officer, Office of Management and Budget, New Executive Office Building, Washington, DC 20503; fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Evaluation of the Rapid Re-housing for Homeless FamiliesDemonstration Program.

OMB Approval Number: 2528- New.

Form Numbers: None.

Members of Affected Public: Households.

Description of the Need for the Information and Its Proposed Use:

The FY 2008 budget for the U.S. Department of Housing and Urban Development (H.R. 2764) included a $25 million set-aside to implement a Rapid Re-housing for Families Demonstration (RRHD) Program “expressly for the purposes of providing housing and services to homeless families.” Also included in the legislation was a requirement that there be an evaluation of the demonstration program “in order to evaluate the effectiveness of the rapid re-housing approach in addressing the needs of homeless families.” The Notice of Funding Availability (NOFA) states that “the Rapid Re-housing Demonstration program will include an evaluation phase, which will focus on determining the efficacy of the assessment process and the housing/service intervention related to how successfully households are able to independently sustain housing after receiving short-term leasing assistance.”

The Participation Agreement (for the collection of informed consent and contact information), the 6-month Tracking Letter, and the Participant Follow-up Survey Instruments are all necessary to conduct the Congressionally-mandated evaluation of the Rapid Re-Housing for Families Demonstration Program.

Frequency of Submission: On-occasion.

Reporting Burden
Form | Respondent sample | Number of respondents | Average time to complete (minimum, maximum) in minutes | Frequency | Total burden (hours)
Contact Information | All enrolled families (N=1,200) | 1,200 | 5 (3-7) | 1 | 100
Tracking Information | All enrolled families (N=1,200) | 1,200 | 2 (1-3) | 1 | 40
Follow-up Survey | All enrolled families (N=1,200) | 1,200 | 25 (20-30) | 1 | 500
Total Burden Hours |  |  |  |  | 640

Status: New Collection.

Authority: Section 3507 of the Paperwork Reduction Act of 1995, 44 U.S.C. 35, as amended.

Dated: December 22, 2010.
Colette Pollard,
Departmental Reports Management Officer, Office of the Chief Information Officer.

[FR Doc. 2010-32790 Filed 12-28-10; 8:45 am]

BILLING CODE 4210-67-P